DEPARTMENT OF HOMELAND SECURITY

U.S. Customs and Border Protection

Notice of Revocation of Customs Brokers' Licenses

AGENCY: U.S. Customs and Border Protection, Department of Homeland Security.

ACTION: Revocation of customs brokers' licenses.

SUMMARY: This document provides notice of the revocation by operation of law of customs brokers' licenses.

FOR FURTHER INFORMATION CONTACT: Julia D. Peterson, Branch Chief, Broker Management, Office of Trade, (202) 863-6601, julia.peterson@cbp.dhs.gov.

SUPPLEMENTARY INFORMATION: This document provides notice of the revocation of customs brokers' licenses pursuant to section 641 of the Tariff Act of 1930, as amended (19 U.S.C. 1641), and section 111.45(a) of title 19 of the Code of Federal Regulations (19 CFR 111.45(a)). The following list of customs brokers' licenses and all associated permits are revoked by operation of law for failure to employ at least one qualifying individual.

Company name | License | Port of issuance
Global Dispatch Services, Inc | 16679 | Laredo.
FK Logistics LLC | 30968 | Chicago.
Naniq Global Logistics, LLC | 30012 | Anchorage.

Dated: October 18, 2017.
Brenda B. Smith,
Executive Assistant Commissioner, Office of Trade.

[FR Doc. 2017-23001 Filed 10-23-17; 8:45 am]

BILLING CODE 9111-14-P